DEPARTMENT OF LABOR

Office of the Secretary

Submission for OMB Review; Comment Request

February 15, 2000.

The Department of Labor (DOL) has submitted the following public information collection requests (ICS) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PEBA, and OASAM contact Karin Kurz ((202) 219-5096 ext. 159 or by E-mail to Kurz-Karin@dol.gov). To obtain documentation for ESA, MSHA, OSHA, and VETS contact Darrin King ((202) 219-509 ext. 151 or by e-mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration (ESA).

Title: Notice of Final Payment or Suspension of Compensation Benefits.

OMB Number: 1215-0024.

Frequency: On occasion.

Affected Public: Business or other for-profit.

Number of Respondents: 500.

Total Responses: 19,350.

Average Time Per Response: 15 minutes.

Estimated Total Burden Hours: 4,838.

Total Annualized Capital/Startup Costs: $0.

Total Annual Costs (operating/maintaining systems or purchasing services): $10,070.

Description: The report is used by insurance carriers and self-insured employers to report the payment of benefits under the Longshore and Harbors Workforce Compensation Act.

Agency: Employment Standards Administration (ESA).

Title: Work Experience and Career Exploration Programs (WECEP).

OMB Number: 1215-0121.

Frequency: Biennial Reporting.

Affected Public: State, Local, or Tribal Governments; Individual or households.

Number of Respondents: 14,014.

Total Responses: 14,014.

Average Time Per Response:

Reporting, WECEP Application—2 hours

Reporting, Written Training Agreement—1 hour

Recordkeeping, WECEP Program Information—1 hour

Recordkeeping, Filing of WECEP record and Training Agreement—½ minute

Estimated Total Burden Hours: 7,145.

Total Annualized Capital/Startup Costs: $0.

Total Annual Costs (operating/maintaining systems or purchasing services): $2.52.

Description: State educational agencies are required to file applications for approval of Work Experience and Career Exploration Programs (WECEP) which provide exceptions to the child labor regulations issued under the Fair Labor Standards Act (FLSA). State educational agencies are also required to maintain certain records with respect to approved WECEP programs.

Ira L. Mills,
Departmental Clearance Officer.

[FR Doc. 00-3933 Filed 2-17-00; 8:45 am]

BILLING CODE 4510-27-M